DEPARTMENT OF COMMERCE

Foreign-Trade Zones Board

[Order No. 1712]

Reorganization/Expansion of Foreign-Trade Zone 196 Under Alternative Site Framework Fort Worth, TX

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Alliance Corridor, Inc., grantee of Foreign-Trade Zone 196, submitted an application to the Board (FTZ Docket 18-2010, filed 3/16/2010) for authority to reorganize under the ASF with a service area that includes the Alliance Corridor area of Denton and Tarrant Counties, Texas, adjacent to the Alliance Customs and Border Protection user fee airport, FTZ 196's existing Sites 1-4 would be categorized as magnet sites and the grantee proposes an initial usage-driven site (Site 5);

Whereas, notice inviting public comment was given in the Federal Register (75 FR 14127-14128, 3/24/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 196 under the alternative site framework is approved, subject to the FTZ Act and the Board's regulations, including Section 400.28, to the Board's standard 2,000-acre activation limit for the overall general-purpose zone project, to a five-year ASF sunset provision for magnet sites that would terminate authority for Sites 2, 3 and 4 if not activated by October 31, 2015, and to a three-year ASF sunset provision for usage-driven sites that would terminate authority for Site 5 if no foreign-status merchandise is admitted for a bona fide customs purpose by October 31, 2013.

Signed at Washington, DC, October 7, 2010.
Ronald K. Lorentzen,
Deputy Assistant Secretary for Import Administration, Alternate Chairman, Foreign-Trade Zones Board.

[FR Doc. 2010-26275 Filed 10-18-10; 8:45 am]

BILLING CODE P